DEPARTMENT OF DEFENSE

Department of the Army

Army Science Board; Notice of Open Meeting

In accordance with section 10(a)(2) of the Federal Advisory Committee Act (Pub. L. 92-463), announcement is made of the following Committee Meeting:

Name of Committee: Army Science Board (ASB).

Date(s) of Meeting: 12-14 October 2005.

Time(s) of Meeting: 0800-1630, 12 October 2005; 0800-1700, 13 October 2005; 0630-1100, 14 October 2005.

Place: Ft. Leavenworth, KS.

1. Agenda: The FY06 study panels of the Army Science Board (ASB) are holding a Fall Meeting on 11-14 October 2005. The meetings will be held at the Eisenhower Hall, Ft. Leavenworth, KS. The plenary will begin at 0800 hrs on the 12th and will end at approximately 1100 hrs on the 14th. For further information on the FY06 ASB Fall Meeting, please contact COL Heather Ierardi at (703) 693-3079 or e-mail at heather.ierardi@hqda.army.mil.

Wayne Joyner,
Program Support Specialist Army Science Board.

[FR Doc. 05-19010 Filed 9-22-05; 8:45 am]

BILLING CODE 3710-08-M